COMMISSION ON CIVIL RIGHTS

Notice of Public Meeting of the Oregon Advisory Committee; Cancellation

AGENCY: Commission on Civil Rights.

ACTION: Notice; cancellation of meeting.

SUMMARY: The Commission on Civil Rights published a notice in the Federal Register concerning a meeting of the Oregon Advisory Committee. The meeting, scheduled for Wednesday, July 9, 2025, at 12:00 p.m. PT, has been cancelled. The notice is in the Federal Register on Tuesday, June 17, 2025, in FR Document Number 2025-11158 on pages 25583-84.

FOR FURTHER INFORMATION CONTACT: Angelica Trevino, Support Services Specialist, at atrevino@usccr.gov or (202) 695-8935.

Dated: July 7, 2025.
David Mussatt,
Supervisory Chief, Regional Programs Unit.

[FR Doc. 2025-12751 Filed 7-8-25; 8:45 am]

BILLING CODE P